DEPARTMENT OF DEFENSE

Department of the Army

Board of Visitors, United States Military Academy (USMA)

AGENCY: Department of the Army, DoD.

ACTION: Notice of open meeting.

SUMMARY: In accordance with Section 10(a)(2) of the Federal Advisory Committee Act (Pub. L. 92-463), announcement is made of the following committee meeting:

Name of Committee: Board of Visitors, United States Military Academy.

Date: Friday, November 5, 2004.

Place of Meeting: Superintendent's Conference Room, Taylor Hall, Building 600, 2nd floor, West Point, NY 10996.

Start Time of Meeting: Approximately 3 p.m.

FOR FURTHER INFORMATION CONTACT: Lieutenant Colonel Shaun T. Wurzbach, United States Military Academy, West Point, NY 10996-5000, (845) 938-4200.

SUPPLEMENTARY INFORMATION: Proposed Agenda: Fall Annual Meeting of the Board of Visitors. Review of the Academic, Military and Physical Programs at the USMA. All proceedings are open.

Brenda S. Bowen,
Army Federal Register Liaison Officer.

[FR Doc. 04-23230 Filed 10-15-04; 8:45 am]

BILLING CODE 3710-08-M